DEPARTMENT OF JUSTICE

[OMB Number 1105-0109]

Agency Information Collection Activities; Proposed eCollection eComments Requested; Procurement Collusion Strike Force Complaint Form

AGENCY: Antitrust Division, Department of Justice.

ACTION: 30-Day notice.

SUMMARY: The Antitrust Division, Department of Justice (DOJ), will be submitting the following information collection request to the Office of Management and Budget (OMB) for review and approval in accordance with the Paperwork Reduction Act of 1995. The proposed information collection was previously published in the Federal Register on August 1, 2023, allowing a 60-day comment period.

DATES: Comments are encouraged and will be accepted for 30 days until November 3, 2023.

FOR FURTHER INFORMATION CONTACT: If you have comments especially on the estimated public burden or associated response time, suggestions, or need a copy of the proposed information collection instrument with instructions or additional information, please contact: sarah.oldfield@usdoj.gov; telephone: 202-305-8915.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1105-0109. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Procurement Collusion Strike Force Complaint Form.

3. Agency form number, if any, and the applicable component of the Department of Justice sponsoring the collection: No form number: DOJ component: Antitrust Div.

4. Affected public who will be asked or required to respond, as well as a brief abstract: Affected Public: Individuals or households. Abstract: The Procurement Collusion Strike Force (PCSF) complaint form facilitates reporting by the public of complaints, concerns, and tips regarding potential antitrust crimes affecting government procurement, grants, and program funding. Respondents will be able to complete and submit information electronically through the PCSF.

5. Obligation to Respond: Voluntary.

6. Total Estimated Number of Respondents: 45.

7. Estimated Time per Respondent: 30 minutes.

8. Frequency: Once/annually.

9. Total Estimated Annual Time Burden: 23 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: September 29, 2023.
Darwin Arceo,
Department Clearance Officer for PRA, U.S. Department of Justice.

[FR Doc. 2023-22102 Filed 10-3-23; 8:45 am]

BILLING CODE 4410-11-P